DEPARTMENT OF EDUCATION

Office of Safe and Drug-Free Schools; Overview Information; School-Based Student Drug-Testing Programs; Notice Inviting Applications for New Awards for Fiscal Year (FY) 2007

Catalog of Federal Domestic Assistance (CFDA) Number: 84.184D.

DATES:

Applications Available: March 9, 2007.

Deadline for Transmittal of Applications: May 8, 2007.

Deadline for Intergovernmental Review: July 9, 2007.

Eligible Applicants: Local educational agencies (LEAs) and public and private entities.

Estimated Available Funds: $1,600,000. Contingent upon the availability of funds, the Secretary may make additional awards later in FY 2007 and in subsequent years from the list of unfunded applicants from this competition.

Estimated Range of Awards: $100,000-$200,000.

Estimated Average Size of Awards: $150,000.

Estimated Number of Awards: 11.

Note: The Department is not bound by any estimates in this notice.

Project Period: Up to 36 months.

Full Text of Announcement

I. Funding Opportunity Description

Purpose of the Program: The School-Based Student Drug-Testing program awards grants to LEAs and public and private entities to develop and implement, or expand, school-based drug-testing programs for students.

Priority: This priority is from the notice of final eligibility and application requirements, priorities, and selection criteria for this program, published in the Federal Register on July 7, 2005 (70 FR 39254).

Absolute Priority: For FY 2007 and any subsequent year in which we make awards based on the list of unfunded applications from this competition, this priority is an absolute priority. Under 34 CFR 75.105(c)(3) we consider only applications that meet this priority.

This priority is:

Mandatory Random and Voluntary Student Drug-Testing Programs. Under this priority, we will provide Federal financial assistance to eligible applicants to develop and implement, or expand, school-based mandatory random or voluntary drug-testing programs for students in one or more grades 6 through 12. Any drug-testing program conducted with funds awarded under this priority must be limited to one or more of the following:

(1) Students who participate in the school's athletic program;

(2) Students who are engaged in competitive, extracurricular, school-sponsored activities; and

(3) A voluntary drug-testing program for students who, along with their parent or guardian, have provided written consent to participate in a random drug-testing program. Applicants that propose voluntary drug testing for students who, along with their parent or guardian, provide written consent, must not prohibit students who do not consent from participating in school or extracurricular activities.

Application Requirements: The following requirements apply to all applications submitted under this program. Requirements (1) and (3) through (5) are from the notice of final eligibility and application requirements, priorities, and selection criteria for this program, published in the Federal Register on July 7, 2005 (70 FR 39254). Requirement (2) is from the notice of final eligibility requirement for the Office of Safe and Drug-Free Schools discretionary grant programs published in the Federal Register on December 4, 2006 (71 FR 70369).

(1) Applicants may not submit more than one application for an award under this program.

(2) Eligibility under this grant competition is limited to applicants that do not currently have an active grant under the Department of Education's School-Based Student Drug-Testing Program (CFDA 84.184D). For the purpose of this requirement, a grant is considered active until the end of the grant's project or funding period, including any extensions of those periods that extend the grantee's authority to obligate funds.

(3) Non-LEA applicants must submit a letter of agreement to participate from an LEA. The letter must be signed by the applicant and an authorized representative of the LEA. Letters of support are not acceptable as evidence of the required agreement.

(4) Funds may not be used for the following purposes:

(a) Student drug tests administered under suspicion of drug use;

(b) Incentives for students to participate in programs;

(c) Drug treatment; or

(d) Drug prevention curricula or other prevention programs.

(5) Applicants must:

(a) Identify a target population and demonstrate a significant need for drug testing within the target population;

(b) Explain how the proposed drug-testing program will be part of an existing, comprehensive drug prevention program in the schools to be served;

(c) Provide a comprehensive plan for referring students who are identified as drug users through the testing program to a student assistance program, counseling, or drug treatment if necessary;

(d) Provide a plan to ensure the confidentiality of drug-testing results, including a provision that prohibits the party conducting drug tests from disclosing to school officials any information about a student's use of legal medications;

(e) Limit the cost of site-based evaluations to no more than 10 percent of total funds requested; and

(f) Provide written assurances of the following:

(i) That results of student drug tests will not be disclosed to law enforcement officials;

(ii) That results of student drug tests will be destroyed when the student graduates or otherwise leaves the LEA or private school involved;

(iii) That all positive drug tests will be reviewed by a certified medical review officer;

(iv) That legal counsel has reviewed the proposed program and advised that the program activities do not appear to violate established constitutional principles or State and Federal requirements related to implementing a student drug-testing program; and

(v) That all proposed activities will be carried out in accordance with the requirements of the Family Educational Rights and Privacy Act (FERPA) and the Protection of Pupil Rights Amendment (PPRA).

Program Authority: 20 U.S.C. 7131.

Applicable Regulations: (a) The Education Department General Administrative Regulations (EDGAR) in 34 CFR parts 74, 75, 77, 79, 80, 81, 82, 84, 85, 86, 97, 98, 99, and 299. (b) The notice of final eligibility and application requirements, priorities, and selection criteria published in the Federal Register on July 7, 2005 (70 FR 39254). (c) The notice of final eligibility requirement for the Office of Safe and Drug-Free Schools discretionary grant programs published in the Federal Register on December 4, 2006 (71 FR 70369).

Note: The regulations in part 79 apply to all applicants except Federally recognized Indian tribes.

Note: The regulations in part 86 apply to institutions of higher education only.

II. Award Information

Type of Award: Discretionary grants.

Estimated Available Funds: $1,600,000. Contingent upon the availability of funds, the Secretary may make additional awards later in FY 2007 and in subsequent years from the list of unfunded applicants from this competition.

Estimated Range of Awards: $100,000-$200,000.

Estimated Average Size of Awards: $150,000.

Estimated Number of Awards: 11.

Note: The Department is not bound by any estimates in this notice.

Project Period: Up to 36 months.

III. Eligibility Information

1. Eligible Applicants: LEAs and public and private entities.

2. Cost Sharing or Matching: This competition does not involve cost sharing or matching.

3. Other:

(a) Participation by Private School Children and Teachers. Entities receiving a grant under the School-Based Student Drug-Testing program are required to provide for the equitable participation of private school children and their teachers or other educational personnel. In order to ensure that grant program activities address the needs of private school children, timely and meaningful consultation with appropriate private school officials must occur during the design and development of the program. This consultation must take place before any decision is made that affects the opportunities of eligible private school children, teachers, and other educational personnel to participate. Administrative direction and control over grant funds must remain with the grantee. See Section 9501, Participation by Private School Children and Teachers, of the Elementary and Secondary Education Act of 1965, as amended by the No Child Left Behind Act of 2001.

(b) Maintenance of Effort. An LEA may receive a grant under the School-Based Student Drug-Testing program only if the State educational agency finds that the combined fiscal effort per student or the aggregate expenditures of the agency and the State with respect to the provision of a free public education by the agency for the preceding fiscal year were not less than 90 percent of the combined fiscal effort or aggregate expenditures for the second preceding fiscal year.

(c) Participation of Faith-based Organizations. Faith-based organizations are eligible to apply for grants under this competition provided they meet all statutory and regulatory requirements.

IV. Application and Submission Information

1. Address to Request Application Package: Education Publications Center (ED Pubs), PO Box 1398, Jessup, Maryland 20794-1398. Telephone (toll free): 1-877-433-7827. Fax: 301-470-1244. If you use a telecommunications device for the deaf (TDD), you may call (toll free): 1-877-576-7734.

You may also contact ED Pubs at its Web site: http://www.ed.gov/pubs/edpubs.html or you may contact ED Pubs at its e-mail address: edpubs@inet.ed.gov.

You may also access the electronic version of the application at the following Web sites: http://www.grants.gov or http://www.ed.gov/fund/grant/apply/grantapps/index/html.

If you request an application from ED Pubs be sure to identify this competition as follows: CFDA number 84.184D.

Individuals with disabilities may obtain a copy of the application in an alternative format (e.g., Braille, large print, audiotape, or computer diskette) by contacting the program contact persons listed under FOR FURTHER INFORMATION CONTACT in section VII of this notice.

2. Content and Form of Application Submission: Requirements concerning the content of an application, together with the forms you must submit, are in the application package for this program.

3. Submission Dates and Times:

Applications Available: March 9, 2007.

Deadline for Transmittal of Applications: May 8, 2007.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Individuals with disabilities who need an accommodation or auxiliary aid in connection with the application process should contact the persons listed under FOR FURTHER INFORMATION CONTACT in section VII of this notice.

Deadline for Intergovernmental Review: July 9, 2007.

4. Intergovernmental Review: This competition is subject to Executive Order 12372 and the regulations in 34 CFR part 79. Information about Intergovernmental Review of Federal Programs under Executive Order 12372 is in the application package for this competition.

5. Funding Restrictions: We reference additional regulations outlining funding restrictions in the Applicable Regulations section of this notice.

6. Other Submission Requirements: Applications for grants under this competition may be submitted electronically or in paper format by mail or hand delivery.

a. Electronic Submission of Applications. To comply with the President's Management Agenda, we are participating as a partner in the Governmentwide Grants.gov Apply site. The School-Based Student-Drug Testing Programs competition, CFDA Number 84.184D, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for School-Based Student Drug-Testing Programs at http://www.Grants.gov. You must search for the downloadable application package for this program by the CFDA number. Do not include the CFDA number's alpha suffix in your search (e.g., search for 84.184, not 84.184D).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the application submission process through Grants.gov.

• You should review and follow the Education Submission Procedures for submitting an application through Grants.gov that are included in the application package for this program to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) Registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

• Application Deadline Date Extension in Case of Technical Issues with the Grants.gov System: If you are experiencing problems submitting your application through Grants.gov, please contact the Grants.gov Support Desk at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed elsewhere in this notice under FOR FURTHER INFORMATION CONTACT and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: (CFDA Number 84.184D), 400 Maryland Avenue, SW., Washington, DC 20202-4260;

or

By mail through a commercial carrier: U.S. Department of Education, Application Control Center, Stop 4260, Attention: (CFDA Number 84.184D), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.184D), 550 12th Street, SW., Room 7041, Potomac Center Plaza, Washington, DC 20202-4260.

The Application Control Center accepts hand deliveries daily between 8:00 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive the notification within 15 business days from the application deadline date, you should call the U.S. Department of Education Application Control Center at (202) 245-6288.

V. Application Review Information

Selection Criteria: The selection criteria for this competition are from the notice of final eligibility and application requirements, priorities, and selection criteria published in the Federal Register on July 7, 2005 (70 FR 39254), and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. We also may require more frequent performance reports in accordance with 34 CFR 75.720(c).

4. Performance Measures: The Department has established the following Government Performance and Results Act (GPRA) performance measures for the School-Based Student Drug-Testing program: the reduction of the incidence of drug use in the past month and the reduction of the incidence of drug use in the past year. The Secretary has set an overall performance target that calls for the prevalence of drug use by students in the target population to decline by five percent annually.

These measures constitute the Department's indicator of success for this program. Consequently, applicants for a grant under this program are advised to give careful consideration to these measures in conceptualizing the approach and evaluation for their proposed project. If funded, applicants will be asked to collect and report data in their annual performance and final reports about progress toward these measures.

VII. Agency Contacts

For Further Information Contact: Sigrid Melus or Kandice Kostic, U.S. Department of Education, 400 Maryland Avenue, SW., room 3E259, Washington, DC 20202-6450. Telephone: (202) 260-3954. E-mail address: OSDFSdrugtesting@ed.gov.

If you use a telecommunications device for the deaf (TDD), you may call the Federal Relay Service (FRS) at 1-800-877-8339.

Individuals with disabilities may obtain this document in an alternative format (e.g., Braille, large print, audiotape, or computer diskette) on request to the contact persons listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text or PDF at the following site: http://www.ed.gov/programs/drugtesting/applicant.html.

Note: The official version of this document is the document published in the Federal Register. Free Internet access to the official edition of the Federal Register and the Code of Federal Regulations is available on GPO Access at: http://www.gpoaccess.gov/nara/index.html.

Dated: March 6, 2007.
Deborah A. Price,
Assistant Deputy Secretary for Safe and Drug-Free Schools.

[FR Doc. E7-4273 Filed 3-8-07; 8:45 am]

BILLING CODE 4000-01-P